DEPARTMENT OF LABOR

Employment and Training Administration

[TA-W-42,337]

Corning Cable Systems; Telecommunication Cable Plant, Hickory, NC; Notice of Termination of Investigation

Pursuant to section 221 of the Trade Act of 1974, an investigation was initiated on November 1, 2002 in response to a worker petition, which was filed on behalf of workers at Corning Cable Systems, Telecommunication Cable Plant, Hickory, North Carolina.

The petitioners have requested that the petition be withdrawn. Consequently, further investigation in this case would serve no purpose, and the investigation has been terminated.

Signed in Washington, DC, this 27th day of November, 2002.
Elliott S. Kushner,
Certifying Officer, Division of Trade Adjustment Assistance.

[FR Doc. 02-31288 Filed 12-11-02; 8:45 am]

BILLING CODE 4510-30-P